DEPARTMENT OF THE INTERIOR

Fish and Wildlife Service

[FWS-R9-IA-2009-N0099; 96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species. The Endangered Species Act requires that we invite public comment on these permit applications.

DATES: Written data, comments or requests must be received by June 17, 2009.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Submit your written data, comments, or requests for copies of the complete applications to the address shown in ADDRESSES.

Applicant: Oregon Zoo, Portland, OR, PRT-210720

The applicant requests a permit to import five captive-bred male African wild dogs (Lycaon pictus) from the Mountain View Farms Conservation and Breeding Center, Langley, British Columbia, Canada, for the purpose of enhancement of the survival of the species.

Applicant: University of Florida, Gainesville, FL, PRT-214094

The applicant requests a permit to export root sections from Michaux's sumac (Rhus michauxii) to the Universidade Federale de ViCosa, Minas Gerais, Brazil, for the purpose of enhancement of the species through scientific research. This notification covers activities conducted by the applicant for a five-year period.

Applicant: George Carden Circus Intl., Inc., Springfield, MO, PRT-211013 and 128999.

The applicant requests permits to re-export (211013) and re-import (128999) one male captive-born Asian Elephant (Elephas maximus) to worldwide locations for the purpose of enhancement of the species through conservation education. This notification covers activities to be conducted by the applicant over a three-year period.

The following applicants request a permit to import the sport-hunted trophy of one male bontebok (Damaliscus pygargus pygargus) culled from a captive herd maintained under the management program of the Republic of South Africa, for the purpose of enhancement of the survival of the species.

Applicant: Mark C. Zimmerman, East Brunswick, NJ, PRT-213650

Applicant: Thomas G. Dullinger, Sandy Hook, CT, PRT-200284

Dated: May 8, 2009.
Lisa J. Lierheimer,
Senior Permit Biologist, Branch of Permits, Division of Management Authority.

[FR Doc. E9-11485 Filed 5-15-09; 8:45 am]

BILLING CODE 4310-55-S